DEPARTMENT OF VETERANS AFFAIRS

[OMB Control No. 2900-0853]

Agency Information Collection Activity: Application for Approval of a Program in a Foreign Country

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0853.

SUPPLEMENTARY INFORMATION:

Authority: Title 38 CFR 21.4260.

Title: Application for Approval of a Program in a Foreign Country, VA Form 22-0976.

OMB Control Number: 2900-0853.

Type of Review: Revision of a currently approved collection.

Abstract: VA will use the information collected on VA Form 22-0976 to determine if a program in a foreign country is approvable under CFR 21.4260. For a review and decision to be made, the VA needs supporting information from the foreign educational institution.

An agency may not conduct or sponsor, and a person is not required to respond to a collection of information unless it displays a currently valid OMB control number. The Federal Register Notice with a 60-day comment period soliciting comments on this collection of information was published at 84 FR 241 on December 16, 2019, pages 68547 and 68548.

Affected Public: Educational Institutions.

Estimated Annual Burden: 338 hours.

Estimated Average Burden per Respondent: 20 minutes.

Frequency of Response: One time.

Estimated Number of Respondents: 1,014.

By direction of the Secretary.
Danny S. Green,
VA Clearance Officer, Office of Quality, Performance and Risk, Department of Veterans Affairs.

[FR Doc. 2020-09547 Filed 5-4-20; 8:45 am]

BILLING CODE 8320-01-P